ENVIRONMENTAL PROTECTION AGENCY

[EPA-R09-OAR-2016-0580; FRL-9993-50-Region 9]

General Permit Under the Federal Indian Country Minor New Source Review Program

AGENCY: Environmental Protection Agency (EPA).

ACTION: Notice of final permit.

SUMMARY: The Environmental Protection Agency (EPA), Region IX is issuing a general permit for use in Indian country within California pursuant to the Clean Air Act (CAA) Federal Indian Country Minor New Source Review (NSR) program for new and modified minor sources. The general permit is for a single source category, gasoline dispensing facilities (GDFs), and will be available in certain areas of Indian country that are within the geographical boundaries of California. This includes areas located in an Indian reservation or in another area of Indian country over which an Indian tribe, or the EPA, has demonstrated that the tribe has jurisdiction and where there is no EPA-approved minor NSR program in place. The EPA is finalizing this general permit as a streamlined option that owners or operators may elect to use for the CAA minor NSR preconstruction permitting of certain minor sources that construct or modify in Indian country and belong to the GDF source category.

DATES: This permit becomes effective, and available for sources to request coverage, June 12, 2019, unless a petition for review of the final permit is properly and timely filed with the EPA Environmental Appeals Board (EAB) per 40 CFR 49.159(d). In that case, the permit's effectiveness will be stayed and construction cannot be authorized under this permit until agency review procedures are exhausted under 40 CFR 49.159(d) and the Regional Administrator subsequently issues a final permit. The general permit becomes effective and applicable as to a particular stationary source upon issuance by the reviewing authority of an Approval of the Request for Coverage for that particular stationary source.

ADDRESSES: Documents relevant to the above-referenced permit are available for public inspection during normal business hours at the following address: U.S. Environmental Protection Agency, Region IX, 75 Hawthorne Street, San Francisco, CA 94105-3901. To arrange for viewing of these documents, call Lisa Beckham at (415) 972-3811. Due to building security procedures, at least 24 hours advance notice is required.

FOR FURTHER INFORMATION CONTACT: Lisa Beckham, EPA Region IX, (415) 972-3811, beckham.lisa@epa.gov. Key portions of the administrative record for this decision, including the general permit, Technical Support Document, and Request for Coverage form, are available through a link at EPA Region IX's website at https://www.epa.gov/caa-permitting/california-tribal-gasoline-permits. The administrative record for this action is available through www.regulations.gov (Docket ID #EPA-R09-OAR-2016-0580).

SUPPLEMENTARY INFORMATION:

Final Decision

The EPA, Region IX is issuing a general permit for use in Indian country within California pursuant to the CAA Federal Indian Country Minor NSR program for new and modified minor sources at 40 CFR 49.151 through 49.161. The general permit is for a single source category, gasoline dispensing facilities (GDFs), and will be available in certain areas of Indian country that are within the geographical boundaries of California. This includes areas located in an Indian reservation or in another area of Indian country (as defined in 18 U.S.C. 1151) over which an Indian tribe, or the EPA, has demonstrated that the tribe has jurisdiction and where there is no EPA-approved minor NSR program in place. The EPA is issuing this general permit as a streamlined option that owners or operators may elect to use for CAA minor NSR preconstruction permitting of certain minor sources that construct or modify in Indian country and belong to the GDF source category.

A gasoline dispensing facility, or GDF, is any stationary source, such as a gas station, that dispenses gasoline into the fuel tank of a motor vehicle, motor vehicle engine, nonroad vehicle or nonroad engine. Types of GDFs that potentially may use this general permit include, but are not limited to, facilities that dispense gasoline into on- and off-road, street, or highway motor vehicles, lawn equipment, boats, test engines, landscaping equipment, generators, pumps, and other gasoline-fueled engines and equipment. New or modified GDF sources with the potential to emit regulated NSR pollutants over thresholds specified in the Federal Indian Country Minor NSR program regulations at 40 CFR 49.153, and located within the geographic boundaries of California and on an Indian reservation or in another area of Indian country over which an Indian tribe or the EPA has demonstrated that the tribe has jurisdiction, are currently subject to permitting requirements under this EPA minor NSR program.

The general permit that is the subject of this notice is intended to provide a streamlined permitting option for owners and operators of qualifying GDFs to use to meet the requirements of this EPA minor NSR program. However, owners and operators of such GDFs may choose to apply to the EPA for a traditional source-specific permit to meet the preconstruction requirements of this permitting program in lieu of requesting coverage under the general permit.

The primary pollutant of concern for GDFs that may use this general permit is volatile organic compounds (VOC), which are emitted from storage tanks and gasoline dispensing units at GDFs. Some GDFs may also have emergency engines, which emit VOC, nitrogen oxides, carbon monoxide, particulate matter (PM), PM less than or equal to 10 µm in diameter (PM10), and PM less than or equal to 2.5 μm in diameter (PM2.5). Except for VOC emissions, emissions of all other regulated NSR pollutants from new or modified GDF sources that may use the general permit are expected to be below the minor NSR permitting thresholds in 40 CFR 49.153.

This general permit regulates VOC emissions from GDFs and includes emission limitations that require each GDF to control emissions from storage tanks during unloading of the gasoline cargo from the tanker truck, using what are known as Stage I controls. In addition, the general permit requires GDFs in ozone nonattainment areas classified as serious, severe, or extreme to limit VOC emissions caused from vehicle refueling by using pump-based controls known as Stage II controls. There are also limits on the amount of gasoline each GDF can dispense in a 12-month period: 25,000,000 million gallons in ozone attainment/unclassifiable areas, marginal ozone nonattainment areas, and moderate ozone nonattainment areas; and 15,000,000 gallons in serious, severe, and extreme ozone nonattainment areas. The emission limitations in the general permit are expected to generally limit emissions of VOC from a new or modified GDF to less than 30 tons per year (tpy) in attainment areas and marginal or moderate ozone nonattainment areas and 9 tpy in serious, severe, and extreme ozone nonattainment areas. The detailed emission limitations are included in the general permit and discussed in detail in our Technical Support Document. These and other key documents related to this general permit are available online here: https://www.epa.gov/caa-permitting/california-tribal-gasoline-permits.

Public Comments

The public comment period started on September 30, 2016 and ended on January 31, 2017. A public hearing was held on November 30, 2016 at the EPA Region IX offices in San Francisco, California. The EPA considered all comments received during the public comment period in making its final permit decision. The submitted comments and the EPA's responses are available as part of the administrative record for this action.

Administrative Record

The final general permit and all other supporting information are available through www.regulations.gov under Docket ID No. EPA-R09-OAR-2016-0580.The administrative record for this action may also be viewed in person, Monday through Friday (excluding Federal holidays) from 9:00 a.m. to 4:00 p.m., at the EPA Region IX address above. Due to building security procedures, please call Lisa Beckham at (415) 972-3811 at least 24 hours in advance to arrange a visit. Lisa Beckham can also be reached through EPA Region IX's toll-free general information line at (866) 372-9378.

Permit Appeal

In accordance with 40 CFR 49.159, within 30 days after a final permit decision has been issued, any person who filed comments on the draft permit or participated in the public hearing may petition the EAB to review any condition of the permit decision. Any person who failed to file comments or to participate in the public hearing may petition for administrative review only to the extent that the changes from the draft to the final permit or other new grounds were not reasonably ascertainable during the public comment period. The 30-day period within which a person may request review under this section begins with service of notice of the final permit decision. A petition to the EAB is a prerequisite to seeking judicial review of the final agency action under Section 307(b) of the CAA. For purposes of judicial review, final agency action occurs when we deny or issue a final permit and agency review procedures are exhausted. Following an appeal to the EAB, the EPA will issue a final permit decision as specified in 40 CFR 49.159(d)(8).

Additional Information

If you have questions, or if you wish to obtain further information, please contact Lisa Beckham at (415) 972-3811, toll-free at (866) 372-9378, via email at R9airpermits@epa.gov, or at the mailing address above. If you would like to be added to our mailing list to receive future information about this general permit or other permit decisions issued by EPA Region IX, please contact Lisa Beckham, or visit the EPA Region IX website at http://www2.epa.gov/caa-permitting/tribal-nsr-permits-region-9.

Please bring the foregoing notice to the attention of all persons who would be interested in this matter.

Dated: May 1, 2019.
Elizabeth J. Adams,
Director, Air Division, Region IX.

[FR Doc. 2019-09831 Filed 5-10-19; 8:45 am]

BILLING CODE 6560-50-P